ENVIRONMENTAL PROTECTION AGENCY

[FRL-8581-4]

Notice of Approval of the Primacy Application for National Primary Drinking Water Regulations for the State of Missouri

AGENCY: Environmental Protection Agency (EPA).

ACTION: Notice of approval and solicitation of requests for a public hearing.

SUMMARY: The Environmental Protection Agency (EPA) is hereby giving notice that the State of Missouri is revising its approved Public Water Supply Supervision Program under the Missouri Department of Natural Resources. The EPA has determined that these revisions are no less stringent than the corresponding Federal regulations. Therefore, the EPA intends to approve these program revisions.

DATES: This determination to approve the Missouri program revision is made pursuant to 40 CFR 142.12(d)(3). This determination shall become final and effective on July 18, 2008, unless (1) a timely and appropriate request for a public hearing is received or (2) the Regional Administrator elects to hold a public hearing on his own motion. Any interested person, other than Federal agencies, may request a public hearing. A request for a public hearing must be submitted to the Regional Administrator at the address shown below by July 18, 2008. If a substantial request for a public hearing is made within the requested thirty day time frame, a public hearing will be held and a notice will be given in the Federal Register and a newspaper of general circulation. Frivolous or insubstantial requests for a hearing may be denied by the Regional Administrator. All interested parties may request a public hearing on the approval to the Regional Administrator at the EPA Region 7 address shown below.

ADDRESSES: Any request for a public hearing shall include the following information: (1) Name, address and telephone number of the individual organization or other entity requesting a hearing; (2) a brief statement of the requesting person's interest in the Regional Administrator's determination and a brief statement on information that the requesting person intends to submit at such hearing; (3) the signature of the individual making the request or, if the request is made on behalf of an organization or other entity, the signature of a responsible official of the organization or other entity. Requests for Public Hearing shall be addressed to: Regional Administrator, Environmental Protection Agency-Region 7, 901 North 5th Street, Kansas City, Kansas 66101.

All documents relating to this determination are available for inspection between the hours of 9 a.m. and 4:30 p.m., Monday through Friday, at the following offices:

Missouri Department of Natural Resources, Water Protection Program, Public Drinking Water Branch, 1101 Riverside Drive, Jefferson City, Missouri 65101-4272.

Environmental Protection Agency-Region 7, Water Wetlands and Pesticides Division, Drinking Water Management Branch, 901 North 5th Street, Kansas City, Kansas 66101.

FOR FURTHER INFORMATION CONTACT: Robert Dunlevy, Environmental Protection Agency—Region 7, Drinking Water Management Branch, (913) 551-7798, or by e-mail at dunlevy.robert@epa.gov.

SUPPLEMENTARY INFORMATION: Notice is hereby given that the EPA has determined to approve an application by the Missouri Department of Natural Resources to incorporate the following EPA National Primary Drinking Water Regulations: (1) Public Water System Definition as Amended by 1996 SDWA Amendments; (August 5, 1998, 63 FR 41940); (2) Disinfection Byproducts Rule and Interim Enhanced Surface Water Treatment Rule (December 16, 1998, 63 FR 69389 and 63 FR 69477); (3) Lead and Copper Rule Minor Revisions (January 12, 2000, 65 FR Page 1949); (4) Public Notification Rule (May 4, 2000, 65 FR 25981); (5) Radionuclides Rule (December 7, 2000, 65 FR 76707); (6) Arsenic and Clarifications to Compliance and New Source Contaminants Monitoring Rule (January 22, 2001, 66 FR 6975); (7) Filter Backwash Recycling Rule (June 8, 2001, 66 FR 31085); (8) Long Term 1 Enhanced Surface Water Treatment Rule (January 14, 2002, 67 FR 1811). The application demonstrates that Missouri has adopted drinking water regulations which satisfy the National Primary Drinking Water Regulations. The EPA has determined that Missouri's regulations are no less stringent than the corresponding Federal regulations and that Missouri continues to meet all requirements for primary enforcement responsibility as specified in 40 CFR 142.10.

Authority: Section 1413 of the Safe Drinking Water Act, as amended, and 40 CFR 142.10, 142.12(d) and 142.13.

Dated: April 30, 2008.
John B. Askew,
Regional Administrator, Region 7.

[FR Doc. E8-13842 Filed 6-17-08; 8:45 am]

BILLING CODE 6560-50-P